Title 3—

The President

Proclamation 7387 of December 14, 2000

Wright Brothers Day, 2000

By the President of the United States of America

A Proclamation

In 1903, Orville and Wilbur Wright were poised on the brink of one of history's most remarkable advances. For years, the two brothers had been mesmerized by the principle of flight and had studied birds to understand how these fascinating creatures rose, fell, and darted through the air. The Wright Brothers' studies affirmed what they had long believed: that powered, controlled human flight was possible. After much research and experimentation and many trials and failures, the brothers tested their prototype biplane on the windy dunes of Kitty Hawk, North Carolina. On December 17, their efforts were rewarded and their dream realized when the Wright Flyer rose through the air, soaring for 12 seconds and traveling 120 feet.

While it took humanity thousands of years to reach that pivotal moment, we have achieved stunning advances in aviation in the past century alone. Less than 25 years after the Wright Brothers' inaugural flight, Charles Lindbergh conquered the Atlantic Ocean flying nonstop aboard The Spirit of St. Louis; in less than 50 years, Chuck Yeager broke the sound barrier; and in less than 70 years, the United States reached the heavens and landed two men on the Moon. Today, we continue to explore the frontiers of space as the International Space Station orbits the Earth.

The creative vision, ingenuity, and indomitable spirit that sparked the Wright Brothers' achievement still power our Nation's aviation accomplishments today. Air travel is a vital part of life in America, and people across the country depend on our air transportation system to link them with one another and to sustain our growing economy. Last year alone, U.S. airlines safely transported almost 700 million passengers on 13 million flights.

The gift of flight has immeasurably strengthened our Nation and enriched the lives of people around the world. It is only fitting that we should remember on December 17 the two visionary Americans whose scientific curiosity, independent thinking, and technical genius began a new era that has taken us to the threshold of space and beyond.

The Congress, by a joint resolution approved December 17, 1963 (77 Stat. 402; 36 U.S.C. 143), has designated December 17 of each year as “Wright Brothers Day” and has authorized and requested the President to issue annually a proclamation inviting the people of the United States to observe that day with appropriate ceremonies and activities.

NOW, THEREFORE, I, WILLIAM J. CLINTON, President of the United States of America, do hereby proclaim December 17, 2000, as Wright Brothers Day.

IN WITNESS WHEREOF, I have hereunto set my hand this fourteenth day of December, in the year of our Lord two thousand, and of the Independence of the United States of America the two hundred and twenty-fifth.

wj

[FR Doc. 00-32741

Filed 12-20-00; 8:45 am]

Billing code 3195-01-P